DEPARTMENT OF COMMERCE

Foreign-Trade Zones Board

[B-89-2012]

Foreign-Trade Zone 277—Western Maricopa County, AZ; Application for Expansion; (New Magnet Site) Under Alternative Site Framework

An application has been submitted to the Foreign-Trade Zones (FTZ) Board (the Board) by the Greater Maricopa Foreign-Trade Zone, Inc., grantee of Foreign-Trade Zone 277, requesting authority to expand its zone under the alternative site framework (ASF) adopted by the Board (15 CFR Sec. 400.2(c)) to include two additional new magnet sites in western Maricopa County, Arizona and request usage-driven designation for an existing temporary site. The application was submitted pursuant to the Foreign-Trade Zones Act, as amended (19 U.S.C. 81a-81u) and the regulations of the Board (15 CFR part 400). It was formally docketed on December 12, 2012.

FTZ 277 was approved by the Board on December 22, 2010 (Board Order 1733, 76 FR 1134, 01/07/2011) and was reorganized under the ASF on December 16, 2011 (Board Order 1804, 76 FR 80886, 12/27/2011). The zone project currently has a service area that includes a portion of Maricopa County, Arizona.

The current zone project includes the following magnet sites: Site 1 (230.25 acres)—within the 416-acre Airport Gateway at Goodyear industrial complex, Bullard Avenue and Van Buren Street, Goodyear; Site 2 (133.01 acres)—within the 286-acre Surprise Pointe Business Park, Waddell Road and Litchfield Road, Surprise; Site 3 (234.84 acres)—within the 1,600-acre Palm Valley 303 Industrial Park, Camelback Road and State Road 303, Goodyear; and, Site 4 (319.84 acres)—within the 1,314-acre 10 West Logistics Center, Van Buren Street and Interstate 10 at 339th Avenue, Maricopa County. The zone also includes two sites which were approved on a temporary basis: Site 5 (13.67 acres)—Suntech Arizona, Inc., 3801 S. Cotton Lane, Goodyear; and, Site 6 (3.53 acres)—Schoeller Arca Systems, Inc., 4320 S. Cotton Lane, Goodyear.

The applicant is now requesting authority to expand its zone project in western Maricopa County as follows: include an additional magnet site (proposed Site 7—185 acres) at the Buckeye Industrial Park, southeast corner of Turner Road and Baseline Road, Buckeye; expand existing Site 5 to include an additional 184.33 acres (total acreage 198 acres) and request magnet designation for the site; and, request that existing Site 6 be designated as a usage-driven site for the sole use of Schoeller Arca Systems, Inc. The proposed new and the existing sites are located adjacent to the Phoenix, Arizona U.S. Customs and Border Protection Ports of Entry.

In accordance with the Board's regulations, Christopher Kemp of the FTZ Staff is designated examiner to evaluate and analyze the facts and information presented in the application and case record and to report findings and recommendations to the Board.

Public comment is invited from interested parties. Submissions shall be addressed to the Board's Executive Secretary at the address below. The closing period for their receipt is February 19, 2013. Rebuttal comments in response to material submitted during the foregoing period may be submitted during the subsequent 15-day period to March 4, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: December 12, 2012.
Andrew McGilvray,
Executive Secretary.

[FR Doc. 2012-30567 Filed 12-18-12; 8:45 am]

BILLING CODE P